DEPARTMENT OF ENERGY

Federal Energy Regulatory Commission

[Docket No. RP01-483-000]

Natural Gas Pipeline Company of America; Notice of Proposed Changes in FERC Gas Tariff

July 13, 2001.

Take notice that on July 10, 2001, Natural Gas Pipeline Company of America (Natural) tendered for filing to become part of its FERC Gas Tariff, Sixth Revised Volume No. 1, the tariff sheets listed on Appendix A to the filing, to be effective August 10, 2001.

Natural states that these sheets were filed to revise several rate schedules and the General Terms and Conditions of Natural's Tariff by making minor updates in four areas by: (1) Making a minor change to Natural's provision for scheduling interruptible services, (2) eliminating from Natural's service request procedures in various rate schedules certain data elements which are no longer relevant, (3) revising the information which may be kept confidential in a capacity release to reflect the Federal Energy Regulatory Commission's transactional posting requirements and (4) correcting several tariff sheets by eliminating duplicative language and an outdated section reference.

Natural states that copies of the filing are being mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18032 Filed 7-18-01; 8:45 am]

BILLING CODE 6717-01-P